DEPARTMENT OF ENERGY

Federal Energy Regulatory Commission

[Docket No. ER98-3096-007, et al.]

Pepco Energy Services, Inc., et al.; Electric Rate and Corporate Regulation Filings

July 31, 2001.

Take notice that the following filings have been made with the Commission:

1. Pepco Energy Services, Inc.

[Docket No. ER98-3096-007]

Take notice that on July 25, 2001 Pepco Energy Services, Inc. filed an updated market power analysis in Support of Its Authority to Sell Electricity at Market-Based Rates.

Comment date: August 15, 2001, in accordance with Standard Paragraph E at the end of this notice.

2. Kentucky Utilities Company

[Docket No. ER01-1288-001]

Take notice that on July 26, 2001, Kentucky Utilities Company (KU), tendered for filing, in compliance with delegated Order dated March 22, 2001, its Interconnection Agreement with East Kentucky Power Cooperative, Inc.

Comment date: August 16, 2001, in accordance with Standard Paragraph E at the end of this notice.

3. Carolina Power & Light Company and Florida Power Corporation

[Docket No. ER01-1807-003]

Take notice that Carolina Power & Light Company and Florida Power Corporation, on July 25, 2001, tendered for filing revised tariff sheets under their FERC Electric Tariffs, Third Revised Volume No. 3 and Second Revised Volume No. 6, respectively, in compliance with the Commission's order issued on June 25, 2001, Carolina Power & Light Co. and Florida Power Corp., 95 FERC ¶ 61,429 (2001). Consistent with the Commission's order, the revisions in this filing will become effective on June 15, 2001.

Copies of the filing were served upon the public utility's jurisdictional customers and the North Carolina Utilities Commission, the South Carolina Public Service Commission and the Florida Public Service Commission.

Comment date: August 15, 2001, in accordance with Standard Paragraph E at the end of this notice.

4. Midwest Energy, Inc.

[Docket No. ER01-2461-001]

Take notice that on July 23, 2001, Midwest Energy, Inc. (Midwest) tendered for filing with the Federal Energy Regulatory Commission the Transaction Service Agreement entered into between Midwest and City of Colby, Kansas.

Midwest states that it is serving copies of the instant filing on the Kansas Corporation Commission.

Comment date: August 13, 2001, in accordance with Standard Paragraph E at the end of this notice.

5. New York Independent System Operator, Inc.

[Docket No. ER01-2495-001]

Take notice that on July 25, 2001, Niagara Mohawk Power Corporation tendered for filing an amended service agreement, i.e. an Interconnection Agreement between Niagara Mohawk Power Corporation and Allegany Limited Partnership for a 2 MW internal combustion generating facility located in the Town of Carrollton, Cattaraugus County, New York, dated as of June 29, 2001, (Agreement). The amended filing reflects the filing of the Agreement as a service agreement filed by Niagara Mohawk under the NYISO Open Access Transmission Tariff. The filing has been designated by the New York Independent System Operator as Service Agreement No. 311.

Comment date: August 15, 2001, in accordance with Standard Paragraph E at the end of this notice.

6. Public Service Company of New Mexico

[Docket No. ER01-2566-001]

Take notice that on July 26, 2001, Public Service Company of New Mexico (PNM) submitted for filing an amendment to the July 11, 2001 filing of the Wholesale Requirements Power Sale and Services Agreement (Agreement) dated June 29, 2001 between PNM and Texas-New Mexico Power Company (TNMP), filed as Service Agreement No. 28 under PNM's FERC Electric Tariff, First Revised Volume No. 3 (Power and Energy Sales Tariff). The amendment includes revised versions of Exhibit 2, Operating Procedure No. 1 and Operating Procedure No. 3 to the Agreement, certain pages of which were inadvertently omitted from the original filing. PNM's filing is available for public inspection at its offices in Albuquerque, New Mexico.

Copies of this filing have been served upon TNMP and the New Mexico Public Regulation Commission.

Comment date: August 16, 2001, in accordance with Standard Paragraph E at the end of this notice.

7. Central Power and Light Company

[Docket No. ER01-2575-001]

Take notice that on July 25, 2001, Central Power and Light Company (CPL) resubmitted for filing an Interconnection Agreement, dated September 2, 1998, between CPL and South Texas Electric Cooperative, Inc. (STEC) amended to include four additional points of interconnection between the parties.

CPL seeks to correct clerical omissions contained in its previous filing of the amendments to this agreement on July 11, 2001. This filing now contains inadvertently omitted Facility Schedules Nos. 7 through 15 that were previously accepted by the Commission in Docket No. ER99-4502-000 and page format changes in the filing that are necessary to bring that filing into compliance with the Commission's Rules of Practice and Procedure and Order No. 614. No changes have been made to the Interconnection Agreement nor the amendments to that agreement since the time they were executed by CPL and STEC. CPL seeks no change in the waivers of notice requirements requested in that filing.

CPL served copies of the filing on South Texas Electric Cooperative, Inc. and the Public Utility Commission of Texas.

Comment date: August 15, 2001, in accordance with Standard Paragraph E at the end of this notice.

8. Avista Corp.

[Docket No. ER01-2682-000]

Take notice that on July 26, 2001, Avista Corporation (AVA) tendered for filing with the Federal Energy Regulatory Commission executed Service Agreements for Short-Term Firm and Non-Firm and Point-To-Point Transmission Service under AVA's Open Access Transmission Tariff—FERC Electric Tariff, Volume No. 8 with Sempra Energy Trading Corp. AVA requests the Service Agreements be given an effective date of July 5, 2001.

Comment date: August 16, 2001, in accordance with Standard Paragraph E at the end of this notice.

9. Indianapolis Power & Light Company

[Docket No. ER01-2683-000]

Take notice that on July 26, 2001, Indianapolis Power & Light Company filed a Service Agreement for Non-Firm Point-to-Point Transmission Service between Indianapolis Power & Light Company and Dayton Power & Light Company, under its open access transmission tariff in the above-captioned proceeding.

Comment date: August 16, 2001, in accordance with Standard Paragraph E at the end of this notice.

10. Entergy Services, Inc.

[Docket No. ER01-2684-000]

Take notice that on July 26, 2001, Entergy Services, Inc., on behalf of Entergy Arkansas, Inc., Entergy Gulf States, Inc., Entergy Louisiana, Inc., Entergy Mississippi, Inc., and Entergy New Orleans, Inc., (collectively, the Entergy Operating Companies) tendered for filing a Non-Firm Point-To-Point Transmission Service Agreement and a Short-Term Firm Point-To-Point Transmission Service Agreement both between Entergy Services, Inc., as agent for the Entergy Operating Companies, and Dynegy Power Marketing, Inc.

Comment date: August 16, 2001, in accordance with Standard Paragraph E at the end of this notice.

11. PacifiCorp Power Marketing, Inc.

[Docket No.ER01-2685-000]

Take notice that on July 26, 2001, PacifiCorp Power Marketing, Inc. filed with the Federal Energy Regulatory Commission a Ten-Year Power Purchase Agreement between PacifiCorp Power Marketing, Inc. and The California Department of Water Resources.

Comment date: August 16, 2001, in accordance with Standard Paragraph E at the end of this notice.

12. American Transmission Systems, Inc.

[Docket No. ER01-2686-000]

Take notice that on July 26, 2001, American Transmission Systems, Inc. filed a Service Agreement to provide Firm Point-to-Point Transmission Service for Mirant Americas Energy Marketing, LP, the Transmission Customer. Services are being provided under the American Transmission Systems, Inc. Open Access Transmission Tariff submitted for filing by the Federal Energy Regulatory Commission in Docket No. ER99-2647-000. The proposed effective date under the Service Agreement is July 25, 2001 for the above mentioned Service Agreement in this filing.

Comment date: August 16, 2001, in accordance with Standard Paragraph E at the end of this notice.

13. American Transmission Systems, Inc.

[Docket No. ER01-2687-000]

Take notice that on July 26, 2001, American Transmission Systems, Inc. filed a Service Agreement to provide Non-Firm Point-to-Point Transmission Service for Mirant Americas Energy Marketing, LP, the Transmission Customer. Services are being provided under the American Transmission Systems, Inc. Open Access Transmission Tariff submitted for filing by the Federal Energy Regulatory Commission in Docket No. ER99-2647-000. The proposed effective date under the Service Agreement is July 25, 2001 for the above mentioned Service Agreement in this filing.

Comment date: August 16, 2001, in accordance with Standard Paragraph E at the end of this notice.

14. Gilroy Energy Center, LLC

[Docket No. ER01-2688-000]

Take notice that on July 26, 2001, Gilroy Energy Center, LLC, (the Applicant) tendered for filing, under section 205 of the Federal Power Act (FPA), a request for authorization to make wholesale sales of electric energy, capacity and ancillary services at market-based rates, to reassign transmission capacity, and to resell firm transmission rights. Applicant proposes to own or lease and operate five 45-megawatt simple-cycle, natural gas-fired combustion turbine peaking facilities to be located in Gilroy, California.

Comment date: August 16, 2001, in accordance with Standard Paragraph E at the end of this notice.

15. King City Energy Center, LLC

[Docket No. ER01-2689-000]

Take notice that on July 26, 2001, King City Energy Center, LLC, (the Applicant) tendered for filing, under section 205 of the Federal Power Act (FPA), a request for authorization to make wholesale sales of electric energy, capacity and ancillary services at market-based rates, to reassign transmission capacity, and to resell firm transmission rights. Applicant proposes to own or lease and operate one 45-megawatt simple-cycle, natural gas-fired combustion turbine peaking facilities to be located in King City, California.

Comment date: August 16, 2001, in accordance with Standard Paragraph E at the end of this notice.

16. California Electric Marketing, LLC

[Docket No. ER01-2690-000]

Take notice that on July 26, 2001, California Electric Marketing, LLC, 1044 North 115 Street, Suite 400, Omaha, Nebraska 68154 (CalEM) submitted for filing with the Federal Energy Regulatory Commission an application for blanket authorization and certain waivers under regulations of the Commission, and for an order accepting its FERC Electric Rate Schedule No. 1 to be effective the earlier of September 24, 2001, or the date of a Commission order granting approval of this Rate Schedule.

CalEM intends to engage in electric power and energy transactions as a marketer and a broker. In transactions where CalEM purchases power, including capacity and related services from electric utilities, qualifying facilities, and independent power producers, and resells such power to other purchasers, CalEM will be functioning as a marketer. In CalEM's marketing transactions, CalEM proposes to charge rates mutually agreed upon by the parties.

In transactions where CalEM does not take title to electric power and/or energy, CalEM will be limited to the role of a broker and will charge a fee for its services. CalEM is not in the business of producing electric power nor does it contemplate acquiring title to any electric power transmission facilities.

Comment date: August 16, 2001, in accordance with Standard Paragraph E at the end of this notice.

17. Avista Corp.

[Docket No.ER01-2691-000]

Take notice that on July 26, 2001 Avista Corporation (AVA) tendered for filing with the Federal Energy Regulatory Commission executed Service Agreements for Short-Term Firm and Non-Firm and Point-To-Point Transmission Service under AVA's Open Access Transmission Tariff—FERC Electric Tariff, Volume No. 8 with Calpine Energy Services, L.P. AVA requests the Service Agreements be given an effective date of June 26, 2001.

Comment date: August 16, 2001, in accordance with Standard Paragraph E at the end of this notice.

18. Canastota Windpower LLC

[Docket No. ER01-2692-000]

Canastota Windpower LLC (Canastota) petitioned the Commission on July 26, 2001, for authority to sell electricity at market-based rates under Section 205(a) of the Federal Power Act, for granting of certain blanket approvals and for the waiver of certain Commission regulations. Canastota is a limited liability company that proposes to engage in the wholesale sale of electric power in the state of New York.

Comment date: August 6, 2001, in accordance with Standard Paragraph E at the end of this notice.

19. IDACORP Energy L.P.

[Docket No. ER01-2693-000]

Take notice that on July 26, 2001, IDACORP Energy L.P. (IDACORP Energy) tendered for filing with the Federal Energy Regulatory Commission a Service Agreement under IDACORP Energy FERC Electric Tariff No. 1, Market Rate Power Sales Tariff, between IDACORP Energy and Overton Power District.

Comment date: August 16, 2001, in accordance with Standard Paragraph E at the end of this notice.

20. The Energy Group of America, Inc.

[Docket No. ER01-2694-000]

Take notice that on July 26, 2001, The Energy Group of America, Inc. tendered for filing a Notice of Succession pursuant to 18 C.F.R. § 35.16 of the Commission's regulations in order to reflect its name change from Energy 2000, Inc.

Comment date: August 16, 2001, in accordance with Standard Paragraph E at the end of this notice.

21. The Dayton Power and Light Company

[Docket No. ER01-2695-000]

Take notice that on July 26, 2001 The Dayton Power and Light Company (Dayton) submitted a service agreement establishing Axia Energy, L.P. as a customer under the terms of Dayton's FERC Electric Tariff, Original Volume No. 10.

Dayton requests an effective date of one day subsequent to this filing for the service agreements. Accordingly, Dayton requests waiver of the Commission's notice requirements. Copies of this filing were served upon Axia Energy, L.P. and the Public Utilities Commission of Ohio.

Comment date: August 16, 2001, in accordance with Standard Paragraph E at the end of this notice.

22. Southwest Transmission Cooperative, Inc.

[Docket No. NJ01-5-001]

Take notice that on July 26, 2001, Southwest Transmission Cooperative, Inc., submitted for filing its revised Standards of Conduct in compliance with the Commission's letter order of June 28, 2001, in NJ01-5-000.

Comment date: August 30, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-19705 Filed 8-6-01; 8:45 am]

BILLING CODE 6717-01-P